DEPARTMENT OF THE INTERIOR

U.S. Geological Survey

Scientific Earthquake Studies Advisory Committee

AGENCY: U.S. Geological Survey.

ACTION: Notice of meeting.

SUMMARY: Pursuant to Public Law 106-503, the Scientific Earthquake Studies Advisory Committee (SESAC) will hold its 17th meeting. The meeting location is the U.S. Geological Survey, John Wesley Powell National Center, Room 1B215, 12201 Sunrise Valley Drive, Reston, Virginia 20192. The Committee is comprised of members from academia, industry, and State government. The Committee shall advise the Director of the U.S. Geological Survey (USGS) on matters relating to the USGS's participation in the National Earthquake hazards Reduction Program.

The Committee will receive updates and provide guidance on Earthquake Hazards Program activities and the status of teams supported by the Program.

Meetings of the Scientific Earthquake Studies Advisory Committee are open to the public.

DATES: February 19, 2008, commencing at 8:30 a.m. and adjourning at 5 p.m.

Contact: Dr. David Applegate, U.S. Geological Survey, MS 905, 12201 Sunrise Valley Drive, Reston, Virginia 20192, (703) 648-6714, applegate@usgs.gov.

Dated: January 24, 2008.
Peter Lyttle,
Acting Associate Director for Geology.

[FR Doc. 08-425 Filed 1-30-08; 8:45 am]

BILLING CODE 4311-AM-M